DEPARTMENT OF LABOR

Occupational Safety and Health Administration

[Docket No. OSHA-2007-0043]

TUV SUD America, Inc.: Grant of Expansion of Recognition

AGENCY: Occupational Safety and Health Administration (OSHA), Labor.

ACTION: Notice.

SUMMARY: In this notice, OSHA announces the final decision to expand the scope of recognition for TUV SUD America, Inc., as a Nationally Recognized Testing Laboratory (NRTL).

DATES: The expansion of the scope of recognition becomes effective on September 21, 2023.

FOR FURTHER INFORMATION CONTACT: Information regarding this notice is available from the following sources:

Press inquiries: Contact Mr. Frank Meilinger, Director, OSHA Office of Communications, U.S. Department of Labor, telephone: (202) 693-1999; email: meilinger.francis2@dol.gov.

General and technical information: Contact Mr. Kevin Robinson, Director, Office of Technical Programs and Coordination Activities, Directorate of Technical Support and Emergency Management, Occupational Safety and Health Administration, U.S. Department of Labor, phone: (202) 693-2300 or email: robinson.kevin@dol.gov.

SUPPLEMENTARY INFORMATION:

I. Notice of Final Decision

OSHA hereby gives notice of the expansion of the scope of recognition for TUV SUD America, Inc. (TUVAM) as a NRTL. TUVAM's expansion covers the addition of nine test sites to the NRTL scope of recognition.

OSHA recognition of a NRTL signifies that the organization meets the requirements specified in 29 CFR 1910.7. Recognition is an acknowledgment that the organization can perform independent safety testing and certification of the specific products covered within the scope of recognition. Each NRTL's scope of recognition includes (1) the type of products the NRTL may test, with each type specified by the applicable test standard and (2) the recognized site(s) that has/have the technical capability to perform the product-testing and product-certification activities for test standards within the NRTL's scope. Recognition is not a delegation or grant of government authority; however, recognition enables employers to use products approved by the NRTL to meet OSHA standards that require product testing and certification.

The agency processes applications by a NRTL for initial recognition, as well as for an expansion or renewal of recognition, following requirements in Appendix A to 29 CFR 1910.7. This appendix requires that the agency publish two notices in the Federal Register in processing an application. In the first notice, OSHA announces the application and provides the preliminary finding. In the second notice, the agency provides the final decision on the application. These notices set forth the NRTL's scope of recognition or modifications of that scope. OSHA maintains an informational web page for each NRTL, including TUVAM, which details that NRTL's scope of recognition. These pages are available from the OSHA website at http://www.osha.gov/dts/otpca/nrtl/index.html.

TUVAM submitted an application, dated January 24, 2021 (OSHA-2007-0043-0045), requesting the conversion of ten existing Satellite Notification Acceptance Program (SNAP) sites to recognized sites under the NRTL Policy for Transitioning to Satellite Notification and Acceptance Program Termination (SNAP Transition Policy) published in the Federal Register on November 24, 2020 (85 FR 75042), as amended by a June 22, 2022 Memorandum from James S. Frederick, Deputy Assistant Secretary for Occupational Safety and Health, to Regional Administrators and Executive Staff, titled “Second Revision to the Nationally Recognized Testing Laboratory (NRTL) Policy for Transitioning to Satellite Notification and Acceptance Program (SNAP) Termination.” TUVAM amended their application on December 10, 2021 (OSHA-2007-0043-0046), to remove one site from the original request, leaving nine sites to be considered in the expansion request.

OSHA published the preliminary notice announcing TUVAM's expansion application in the Federal Register on August 15, 2023 (88 FR 55478). The agency requested comments by August 30, 2023, but it received no comments in response to this notice. OSHA is now proceeding with this final grant of expansion of TUVAM's NRTL recognition.

To obtain or review copies of all public documents pertaining to the TUVAM application, go to http://www.regulations.gov or contact the Docket Office, Occupational Safety and Health Administration, U.S. Department of Labor. Docket No. OSHA-2007-0043 contains all materials in the record concerning TUVAM's recognition. All submissions, including copyrighted material, are available for inspection through the OSHA Docket Office. Contact the OSHA Docket Office at (202) 693-2350 for assistance in locating docket submissions.

II. Final Decision and Order

OSHA staff examined TUVAM's expansion application, its capability to meet the requirements of the test standards, and other pertinent information. Based on its review of this evidence, OSHA finds that TUVAM meets the requirements of 29 CFR 1910.7 for expansion of its recognition, subject to the specified limitations and condition. OSHA limits the expansion of TUVAM's recognition to include the nine sites listed in Table 1, below. This limitation is consistent with the recognition that OSHA grants to other NRTLs that operate multiple sites.

Table 1—List of Test Sites for Inclusion in TUVAM's NRTL Scope of Recognition
TUVAM site name | Address | Country
Shenzhen | Building 6, 12 & 13, Zhiheng Wisdomeland Business Park, Nantou Checkpoint Road 2, 518052, Shenzhen, Guangdong Province | China.
Gormley | 11 Gordon Collins Drive, Gormley, Ontario L0H 1G0 | Canada.
Fareham | Octagon House, Concorde Way, Segensworth North, Fareham, Hampshire, PO15 5RL | United Kingdom.
Seoul | 10, Gukjegumyung-ro, Yeongdeungpo-gu, Seoul | Korea.
Tampa | 5610 West Sligh Avenue, Suite 100, Tampa, Florida | United States.
Tokyo | Sumitmo Fudosan, Nishi-shinjuku Bldg. No 4 8F 4-33-4, Nishi-Shinjuku, Sjinjuku-ku, Tokyo, 160-0023 | Japan.
Taipei | 7F, No 37, Section 2, Zhongyang, South Road, Beitou District, 11270 Taipei City | Taiwan.
Singapore | No. 15 International Business Park 609937 | Singapore.
Guangzhou | 5F/8F (East), Communication Building, 163 Pingyun Road, Huangpu Avenue West Guangzhou, 510656, Guangdong Province | China.

A. Conditions

In addition to those conditions already required by 29 CFR 1910.7, TUVAM must abide by the following conditions of the recognition:

1. TUVAM must inform OSHA as soon as possible, in writing, of any change of ownership, facilities, or key personnel, and of any major change in its operations as a NRTL, and provide details of the change(s);

2. TUVAM must meet all the terms of its recognition and comply with all OSHA policies pertaining to this recognition; and

3. TUVAM must continue to meet the requirements for recognition, including all previously published conditions on TUVAM's scope of recognition, in all areas for which it has recognition.

Pursuant to the authority in 29 CFR 1910.7, OSHA hereby expands the scope of recognition of TUVAM as a NRTL, subject to the limitations and conditions specified above.

III. Authority and Signature

James S. Frederick, Deputy Assistant Secretary of Labor for Occupational Safety and Health, authorized the preparation of this notice. Accordingly, the agency is issuing this notice pursuant to 29 U.S.C. 657(g)(2), Secretary of Labor's Order No. 8-2020 (85 FR 58393, Sept. 18, 2020), and 29 CFR 1910.7.

Signed at Washington, DC.
James S. Frederick,
Deputy Assistant Secretary of Labor for Occupational Safety and Health.

[FR Doc. 2023-20404 Filed 9-20-23; 8:45 am]

BILLING CODE 4510-26-P